DEPARTMENT OF TRANSPORTATION

Federal Highway Administration

Notice of Availability of the Draft Environmental Impact Statement: Riverside and Orange Counties, CA

AGENCY: Federal Highway Administration (FHWA), DOT.

ACTION: Notice of Availability of the Draft Environmental Impact Statement.

SUMMARY: The Federal Highway Administration (FHWA), on behalf of the California Department of Transportation (Caltrans), announces the availability of the Draft Environmental Impact Statement for a proposed highway project in Riverside and Orange Counties, California.

DATES: The comment period for the State Route 91 Corridor Improvement Project Draft Environmental Impact Statement will end 45 days after publication of this Notice of Availability. A public meeting for the Draft Environmental Impact Statement will be held on June 9, 2011 at the Corona Civic Center Gymnasium, 502 S. Vicentia, Corona, California 92882, between 3:30 p.m. and 7:30 p.m.

ADDRESSES: The Draft Environmental Impact Statement is available for review at the Riverside County Transportation Commission, 4080 Lemon Street, 3rd Floor, Riverside, CA 92501, the Corona Public Library, 650 S. Main Street, Corona, CA 92882, the City of Corona Public Works Department, 400 S. Vicentia Ave., 2nd Floor, Suite 210, Corona, CA 92882, and California Department of Transportation (Caltrans), District 8, 464 W. Fourth Street, San Bernardino, CA 92401. The Draft Environmental Impact Statement is also available at http://www.sr91project.info/index.php.

FOR FURTHER INFORMATION CONTACT: Aaron Burton, Senior Environmental Planner, California Department of Transportation (Caltrans), District 8, 464 West Fourth Street, Sixth Floor, San Bernardino, California 92401.

SUPPLEMENTARY INFORMATION: Effective July 1, 2007, the Federal Highway Administration (FHWA) assigned, and the California Department of Transportation (Caltrans) assumed, environmental responsibilities for this project pursuant to 23 U.S.C. 327. Caltrans as the delegated National Environmental Policy Act (NEPA) agency has prepared a Draft Environmental Impact Statement on a proposal for a highway improvement project in Riverside County, California. The State Route 91 Corridor Improvement Project proposes to increase capacity on the State Route 91 and Interstate 15 in Riverside and Orange Counties. The State Route 91 Corridor Improvement Project proposes to widen existing SR-91 from the State Route 91/State Route 241 interchange in the Cities of Anaheim and Yorba Linda in Orange County to Pierce Street in the City of Riverside in Riverside County. The proposed project also includes improvements to Interstate 15 in Riverside County between the Interstate 15/Cajalco Road interchange in the City of Corona and the Interstate 15/Hidden Valley Parkway interchange in the Cities of Corona and Norco. The project limits on Interstate 15 begin at Cajalco Road, approximately 5 miles south of SR-91 and extend north on Interstate 15 to Hidden Valley Parkway, approximately 1 mile north of SR-91.

The alternatives evaluated in the Draft Environmental Impact Statement are two Build Alternatives and a No Build Alternative. Both State Route 91 Corridor Improvement Project Build Alternatives would add one general purpose lane in each direction on the project segment of State Route 91. These lane additions would be continuous throughout the project limits. Both Build Alternatives would provide auxiliary lanes or collector-distributor roads at interchanges and would modify the existing interchange geometrics within the project limits to improve traffic operations. The Build Alternatives include upgrades to existing State Route 91 to standard shoulder, lane, and buffer widths where those upgrades can be accommodated. Alternative 1 would maintain one median high-occupancy vehicle (HOV) lane in each direction on State Route 91 within the project limits and proposes two HOV lane connectors: From eastbound State Route 91 to southbound Interstate 15 and from northbound Interstate 15 to westbound State Route 91. Alternative 1 would also add one HOV lane in each direction on Interstate 15 extending from the proposed HOV lane connectors south to Ontario Avenue. Alternative 2 proposes to convert the existing HOV lanes to two tolled express lanes in each direction on State Route-91 from the Orange/Riverside County line to Interstate 15 including two express lane connectors: From eastbound State Route 91 to southbound Interstate 15 and from northbound Interstate 15 to westbound State Route 91. Alternative 2 also proposes to add express lane connectors from eastbound State Route 91 to northbound Interstate 15 and from southbound Interstate 15 to westbound State Route 91. Alternative 2 would also add one tolled express lane in each direction on Interstate 15 extending from the proposed express lane connectors north to Hidden Valley Parkway and south to Cajalco Road. The No-Build Alternative would generally maintain the current configuration of State Route 91 and Interstate 15. The Notice of Intent was published in the Federal Register July 3, 2008. The project's termini on State Route 91 is at State Route 241 on the west and Pierce Street on the east. On Interstate 15, the project's termini are Hidden Valley Parkway on the north and Cajalco on the south. The project segment of State Route 91 extends approximately 14 miles and approximately 6 miles on Interstate 15. Anticipated Federal approvals include, Modified Access Report to the Interstate System, Air Quality Conformity, Section 7 consultation for Threatened and Endangered Species, and a Section 404 individual permit.

(Catalog of Federal Domestic Assistance Program Number 20.205, Highway Planning and Construction. The regulations implementing Executive Order 12372 regarding intergovernmental consultation on Federal programs and activities apply to this program.)

Issued on: May 20, 2011.
Shawn E. Oliver,
South Team Leader, State Programs, Federal Highway Administration, Sacramento, California.

[FR Doc. 2011-13042 Filed 5-25-11; 8:45 am]

BILLING CODE 4910-22-P